INTERNATIONAL TRADE COMMISSION

[Investigation Nos. 701-TA-462 and 731-TA-1156-1158 (Second Review) and 731-TA-1043-1045 (Third Review)]

Polyethylene Retail Carrier Bags From China, Indonesia, Malaysia, Taiwan, Thailand, and Vietnam

Determinations

On the basis of the record ¹ developed in the subject five-year reviews, the United States International Trade Commission (“Commission”) determines, pursuant to the Tariff Act of 1930 (“the Act”), that revocation of the antidumping duty orders on polyethylene retail carrier bags from China, Indonesia, Malaysia, Taiwan, Thailand, and Vietnam and the countervailing duty order on polyethylene retail carrier bags from Vietnam would be likely to lead to continuation or recurrence of material injury to an industry in the United States within a reasonably foreseeable time.

¹ The record is defined in § 207.2(f) of the Commission's Rules of Practice and Procedure (19 CFR 207.2(f)).

Background

The Commission instituted the reviews on April 1, 2021 (86 FR 17200) and determined on July 7, 2021 that it would conduct expedited reviews (86 FR 51377, September 15, 2021).

The Commission made these determinations pursuant to section 751(c) of the Act (19 U.S.C. 1675(c)). It completed and filed its determinations in the reviews on October 18, 2021. The views of the Commission are contained in USITC Publication 5233 (October 2021), entitled Polyethylene Retail Carrier Bags from China, Indonesia, Malaysia, Taiwan, Thailand, and Vietnam: Investigation Nos. 701-TA-462 and 731-TA-1156-1158 (Second Review) and 731-TA-1043-1045 (Third Review).

By order of the Commission.
Issued: October 18, 2021.
Lisa Barton,
Secretary to the Commission.

[FR Doc. 2021-23004 Filed 10-20-21; 8:45 am]

BILLING CODE 7020-02-P